GULF COAST ECOSYSTEM RESTORATION COUNCIL

Membership of the Gulf Coast Ecosystem Restoration Council Performance Review Board

AGENCY: Gulf Coast Ecosystem Restoration Council.

ACTION: Notice of Membership on the Gulf Coast Ecosystem Restoration Council's Performance Review Board Membership.

SUMMARY: In accordance with 5 U.S.C. 4314(c)(4), the Gulf Coast Ecosystem Restoration Council (GCERC), announce the appointment of those individuals who have been selected to serve as members of GCERC's Performance Review Board. The Performance Review Board is responsible for reviewing performance appraisals and rating of Senior Executive Service (SES) members and making recommendations to the appointing authority on other performance management issues, such as pay adjustments, bonuses and Presidential Rank Awards for SES members. The appointment of these members to the Performance Review Board will be for a period of twenty-four (24) months.

DATES: The period of appointment for those individuals selected for GCERC's Performance Review Board begins on October 15, 2015.

FOR FURTHER INFORMATION CONTACT: Jennifer Munz, Department of Commerce, Office of Human Resources Management, Office of Executive Resources, 14th and Constitution Avenue NW., Room 51010, Washington, DC 20230, at (202) 482-4051.

SUPPLEMENTARY INFORMATION: In accordance with 5 U.S.C. § 4314(c)(4), the Gulf Coast Ecosystem Restoration Council (GCERC), announce the appointment of those individuals who have been selected to serve as members of GCERC's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for GCERC's Performance Review Board begins on October 15, 2015. The name, position title, and type of appointment of each member of GCERC's Performance Review Board are set forth below by organization:

Department of Commerce, Office of the Secretary (OS)

Pravina Raghaven, Senior Advisor for Policy and Program Integration, Department of Commerce, Career SES, Chairperson (New Member)

Gulf Coast Ecosystem Restoration Council

Justin Ehrenwerth, Executive Director, Gulf Coast Ecosystem Restoration Council, Limited Term SES (New Member)

Mary Pleffner, Chief Financial Officer and Director of Administration, Gulf Coast Ecosystem Restoration Council, Career SES (New Member)

Department of Agriculture

Homer Wilkes, Director Gulf Coast Restoration Division, Natural Resources Conservation Service, U.S. Department of Agriculture, Career SES (New Member)

Texas Commission on Environmental Quality, State of Texas

Stephen Tatum, Executive Assistant and Special Counsel to Commissioner Toby Baker of Texas, Texas Commission on Environmental Quality, State of Texas, (New Member)

Department of Conservation and Natural Resources, State of Alabama

Patti Powell, State Lands Director, Department of Conservation and Natural Resources, State of Alabama (New Member)

Dated: September 24, 2015.
Denise A. Yaag,
Director, Office of Executive Resources, Office of Human Resources Management, Office of the Secretary/Office of the CFO/ASA, Department of Commerce.

[FR Doc. 2015-26232 Filed 10-14-15; 8:45 am]

BILLING CODE 6560-58-P